ENVIRONMENTAL PROTECTION AGENCY

[FRL-7596-2]

Notice of Proposed Administrative Settlement Pursuant to the Comprehensive Environmental Response, Compensation, and Liability Act, as Amended by the Superfund Amendments and Reauthorization Act; Polar Star Superfund Removal Site

AGENCY: Environmental Protection Agency.

ACTION: Notice, request for public comments.

SUMMARY: In accordance with section 122(i) of the Comprehensive Environmental Response, Compensation, and Liability Act, as amended (“CERCLA”), 42 U.S.C. 9622(i), notice is hereby given of a proposed CERCLE 122(H) Agreement for Recovery of Past Response Costs (“Agreement”) concerning the Polar Star Superfund Removal Site in Dutch Flat, California with Desert Star Group, Inc. (“DSGI”) and Tuli P. Haromy, the sole shareholder and sole officer of DSGI. The Agreement requires the settling parties to sell all the real property parcels owned by DSGI in Dutch Flat, and to pay 95% of the net proceeds from such sales to the U.S. Environmental Protection Agency (the “Agency” or “USEPA”) Hazardous Substance Superfund. All property must be listed with a real estate listing agent for a period of one year from the effective date of the Agreement. If any property is not sold within that period, it must be offered for sale at a public auction. Upon performance of the Agreement by the settling parties, the settling parties shall have resolved any and all civil liability to USEPA under section 107(a) of CERCLA, 42 U.S.C. 9607 (a), for reimbursement of past response costs. For thirty (30) days following the date of publication of this notice, the Agency will receive written comments relating to the Agreement. The Agency will consider all comments received and may modify or withdraw its consent to the Agreement if comments received disclose facts or considerations which indicate that the Agreement is inappropriate, improper, or inadequate. The Agency's response to any comments received will be available for public inspection at USEPA Region IX, 75 Hawthorne Street, San Francisco, California.

DATES: Comments must be submitted on or before January 16, 2004.

ADDRESSES: The proposed Agreement may be obtained from Judith Winchell, Environmental Protection Specialist, telephone (415) 972-3124. Comments regarding the proposed Agreement should be addressed to Judith Winchell (SFD-7) at EPA Region IX, 75 Hawthorne Street, San Francisco, California 94105, and should reference the Polar Star Superfund Removal Site, Dutch Flat, California, and USEPA Docket No. 2003-16.

FOR FURTHER INFORMATION CONTACT: Joshua Wirtschafter, Office of Regional Counsel, telephone (415) 972-3912, USEPA Region IX, 75 Hawthorne Street, San Francisco, California 94105.

Dated: December 8, 2003.
Daniel A. Meer,
Chief, Response, Planning & Assessment Branch, Superfund Division (SFD-9).

[FR Doc. 03-31120 Filed 12-16-03; 8:45 am]

BILLING CODE 6560-50-P